DEPARTMENT OF ENERGY

10 CFR Part 430

[EERE-2020-BT-TP-0002]

RIN 1904-AE85

Energy Conservation Program: Test Procedures for Showerheads

AGENCY: Office of Energy Efficiency and Renewable Energy, Department of Energy.

ACTION: Notification of public meeting (webinar) and extension of comment period.

SUMMARY: On August 13, 2020, the U.S. Department of Energy (“DOE”) published in the Federal Register a notice of proposed rulemaking (“NOPR”) regarding proposals to amend the test procedures for showerheads and to request comment on the proposals. That NOPR also announced a webinar but did not announce a webinar date. DOE is announcing that the webinar will be held on September 3, 2020, from 12 p.m. to 4 p.m. Additionally, on August 18, 2020, DOE received a request from Plumbing Manufacturers International (PMI) to extend the comment period for the NOPR by 30 days. DOE is announcing the comment period is extended to September 30, 2020.

DATES: Meeting: DOE will hold a webinar on Thursday, September 3, 2020, from 12 p.m. to 4 p.m. See the “Public Participation” section of this notice for webinar registration information, participant instructions, and information about the capabilities available to webinar participants. The comment period for this NOPR published on August 13, 2020 (85 FR 49284) is extended to September 30, 2020.

ADDRESSES: Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov/docket?D=EERE-2020-BT-TP-0002 and https://www1.eere.energy.gov/buildings/appliance_standards/standards.aspx?productid=2&action=viewlive. The docket web page contains simple instructions on how to access all documents, including public comments, in the docket.

FOR FURTHER INFORMATION CONTACT: Mr. John Cymbalsky, U.S. Department of Energy, Office of Energy Efficiency and Renewable Energy, Building Technologies Office, EE-2J, 1000 Independence Avenue SW, Washington, DC 20585-0121. Telephone: (202) 287-1692. Email: ApplianceStandardsQuestions@ee.doe.gov.

Ms. Elizabeth Kohl, U.S. Department of Energy, Office of the General Counsel, GC-33, 1000 Independence Avenue SW, Washington, DC 20585-0121. Telephone: (202) 586-7796. Email: Elizabeth.Kohl@hq.doe.gov.

For further information on how to submit a comment, review other public comments and the docket, or participate in the webinar, contact the Appliance and Equipment Standards Program staff at (202) 287-1445 or by email: ApplianceStandardsQuestions@ee.doe.gov.

SUPPLEMENTARY INFORMATION: On August 13, 2020, DOE published in the Federal Register a NOPR and request for comment regarding proposals to amend the test procedures for showerheads, specifically proposals to amend the definition of a showerhead consistent with the most recent standard developed by the American Society of Mechanical Engineers in 2018. 85 FR 49284 (August 2020 NOPR). The August 2020 NOPR also announced a webinar but did not announce a webinar date.

This notice announces that DOE will hold a webinar to discuss the proposed amendments to the showerheads test procedures on Thursday, September 3, 2020. Additionally, on August 18, 2020, DOE received a request from PMI to extend the comment period for the NOPR by 30 days (http://www.regulations.gov/docket?D=EERE-2020-BT-TP-0002-0011). DOE announces that it is extending the comment period until September 30, 2020.

Public Participation

See section IV, “Public Participation,” of the August 2020 NOPR for additional information on submitting written comments. Id. at 85 FR 49295.

A. Participation in the Public Meeting (Webinar)

The time and date of the webinar are listed in the DATES section at the beginning of this document. Webinar registration information, participant instructions, and information about the capabilities available to webinar participants will be published on DOE's website: https://www1.eere.energy.gov/buildings/appliance_standards/standards.aspx?productid=2&action=viewlive. If you plan to attend the webinar, please notify the Appliance and Equipment Standards Program staff at (202) 287-1445 or by email: Appliance_Standards_Public_Meetings@ee.doe.gov.

Please note that foreign nationals participating in the public meeting are subject to advance security screening procedures which require advance notice prior to attendance at the public meeting. If a foreign national wishes to participate in the public meeting, please inform DOE of this fact as soon as possible by contacting Ms. Regina Washington at (202) 586-1214 or by email: Regina.Washington@ee.doe.gov so that the necessary procedures can be completed.

B. Procedure for Submitting Prepared General Statements for Distribution

Any person who has plans to present a prepared general statement may request that copies of his or her statement be made available at the public meeting. Such persons may submit requests, along with an advance electronic copy of their statement in PDF (preferred), Microsoft Word or Excel, WordPerfect, or text (ASCII) file format, by email to: Appliance_Standards_Public_Meetings@ee.doe.gov. The request and advance copy of statements must be received at least one week before the public meeting via email. Please include a telephone number to enable DOE staff to make a follow-up contact, if needed.

A transcript of the public meeting will be included in the docket, which can be viewed as described in the Docket section at the beginning of this document. In addition, any person may buy a copy of the transcript from the transcribing reporter.

Signing Authority

This document of the Department of Energy was signed on August 25, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 25, 2020.
Treena V. Garrett,
Federal Register Liaison Officer, U.S. Department of Energy.

[FR Doc. 2020-19015 Filed 8-28-20; 8:45 am]

BILLING CODE 6450-01-P